ENVIRONMENTAL PROTECTION AGENCY

[EPA-HQ-OAR-2008-0707; FRL-8866-01-OMS]

Information Collection Request Submitted to OMB for Review and Approval; Comment Request; Data Reporting Requirements for State and Local Vehicle Emission Inspection and Maintenance (I/M) Programs (Renewal)

AGENCY: Environmental Protection Agency (EPA).

ACTION: Notice.

SUMMARY: The Environmental Protection Agency (EPA) has submitted an information collection request (ICR), Data Reporting Requirements for State and Local Vehicle Emission Inspection and Maintenance (I/M) Programs (EPA ICR Number 1613.07, OMB Control Number 2060-0252) to the Office of Management and Budget (OMB) for review and approval in accordance with the Paperwork Reduction Act. This is a proposed extension of the ICR, which is currently approved through October 31, 2021. Public comments were previously requested via the Federal Register on March 1, 2021, which included a 60-day comment period ending on April 30, 2021. This notice allows for an additional 30 days for public comments. A fuller description of the ICR is given below, including its estimated burden and cost to the public. An agency may not conduct or sponsor and a person is not required to respond to a collection of information unless it displays a currently valid OMB control number.

DATES: Additional comments may be submitted on or before September 13, 2021.

ADDRESSES: You may send comments, identified by Docket ID No. EPA-HQ-OAR-2008-0707, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

Out of an abundance of caution for members of the public and our staff, the EPA Docket Center and Reading Room has remained closed to public visitors since March 31, 2020, to reduce the risk of transmitting COVID-19. Our Docket Center staff will continue to provide remote customer service via email, phone, and webform. We encourage the public to submit comments via https://www.regulations.gov, as there is a temporary suspension of mail delivery to EPA, and no hand deliveries are currently accepted. For further information on EPA Docket Center services and the current status, please visit us online at https://www.epa.gov/dockets.

FOR FURTHER INFORMATION CONTACT: Joe Winkelmann, Office of Transportation and Air Quality, U.S. Environmental Protection Agency, 2000 Traverwood, Ann Arbor, Michigan 48105; telephone number: 734-214-4255; email address: winkelmann.joseph@epa.gov.

SUPPLEMENTARY INFORMATION: Supporting documents, which explain in detail the information that the EPA will be collecting, are available in the public docket for this ICR. The docket can be viewed online at www.regulations.gov. For further information and updates on EPA Docket Center services, please visit us online at https://www.epa.gov/dockets.

Abstract: Clean Air Act section 182 and EPA's regulations (40 CFR part 51, subpart S) establish the requirements for state and local I/M programs that are included in state implementation plans (SIPs). To provide general oversight and support to these programs, EPA requires that state agencies with basic and enhanced I/M programs collect two varieties of reports for submission to the Agency:

• An annual report providing general program operating data and summary statistics, addressing the program's current design and coverage, a summary of testing data, enforcement program efforts, quality assurance and quality control efforts, and other miscellaneous information allowing for an assessment of the program's relative effectiveness; and

• A biennial report on any changes to the program over the two-year period and the impact of such changes, including any deficiencies discovered and corrections made or planned.

General program effectiveness is determined by the degree to which a program misses, meets, or exceeds the emission reductions committed to in the state's approved SIP, which, in turn, must meet or exceed the minimum emission reductions expected from the relevant performance standard, as promulgated under 40 CFR part 51, subpart S, in response to requirements established in section 182 of the Clean Air Act. This information is used by EPA to determine a program's progress toward meeting requirements under 40 CFR part 51, subpart S, and to provide background information in support of program evaluations. Additional information regarding the current renewal of this ICR as well as previous renewals can be found in Docket ID No. EPA-HQ-OAR-2008-0707.

Form Numbers: None.

Respondents/affected entities: State governments.

Respondent's obligation to respond: Mandatory (40 CFR 51.366).

Estimated number of respondents: 26 (total).

Frequency of response: Annual and biennial.

Total estimated burden: 2,236 hours (per year). Burden is defined at 5 CFR 1320.03(b).

Total estimated cost: $148,824 (per year), includes $0 annualized capital or operation & maintenance costs.

Changes in Estimates: There is a decrease of 172 hours in the total estimated respondent burden compared with the ICR currently approved by OMB due to a reduction in the number of respondents covered by the collection.

Courtney Kerwin,
Director, Regulatory Support Division.

[FR Doc. 2021-17316 Filed 8-12-21; 8:45 am]

BILLING CODE 6560-50-P